DEPARTMENT OF HEALTH AND HUMAN SERVICES

National Institutes of Health

National Heart, Lung, and Blood Institute; Notice of Meeting

Pursuant to section 10(a) of the Federal Advisory Committee Act, as amended (5 U.S.C. Appendix 2), notice is hereby given of a meeting of the Sleep Disorders Research Advisory Board.

The meeting will be open to the public, with attendance limited to space available. Individuals who plan to attend and need special assistance, such as sign language interpretation or other reasonable accommodations, should notify the Contact Person listed below in advance of the meeting.

Name of Committee: Sleep Disorders Research Advisory Board.

Date: December 6, 2000.

Time: 8:30 am to 3:00 pm.

Agenda: To discuss sleep research and education priorities and programs.

Place: Natcher Building 45, Conference Room D, National Institutes of Health, Bethesda, MD 20892.

Contact Person: Michael J Twery, PhD, Acting Director, National Center on Sleep Disorders Research, NIH/National Heart, Lung, and Blood Institute, National Center on Sleep Disorders Research, Two Rockledge Center, Suite 10038, 6701 Rockledge Drive, Bethesda, MD 20892, 301/435-0199.

(Catalogue of Federal Domestic Assistance Program Nos. 93.233, National Center for Sleep Disorders Research; 93.837, Heart and Vascular Diseases Research; 93.838, Lung Diseases Research; 93.839, Blood Diseases and Resources Research, National Institutes of Health, HHS)
Dated: October 12, 2000.
LaVerne Y. Stringfield,
Director, Office of Federal Advisory Committee Policy.

[FR Doc. 00-26872 Filed 10-18-00; 8:45 am]

BILLING CODE 4140-01-M